DEPARTMENT OF ENERGY

Federal Energy Regulatory Commission

[Project No. 2883-009]

Aquenergy Systems, LLC; Notice of Application Ready for Environmental Analysis, and Soliciting Comments, Recommendations, Terms and Conditions, and Prescriptions

Take notice that the following hydroelectric application has been filed with the Commission and is available for public inspection.

a. Type of Application: New Major License.

b. Project No.: 2883-009.

c. Date Filed: May 30, 2018.

d. Applicant: Aquenergy Systems, LLC (Aquenergy).

e. Name of Project: Fries Hydroelectric Project (Fries Project).

f. Location: The existing project is located on the New River, in Grayson County, Virginia. The project does not occupy any federal land.

g. Filed Pursuant to: Federal Power Act, 16 U.S.C. 791(a)-825(r).

h. Applicant Contact: Kevin Webb, Hydro Licensing Manager, Enel Green Power North America, Inc., 100 Brickstone Square, Suite 300, Andover, MA 01810; (978) 935-6039; kevin.webb@enel.com.

i. FERC Contact: Jody Callihan, (202) 502-8278 or jody.callihan@ferc.gov.

j. Deadline for filing comments, recommendations, terms and conditions, and prescriptions: Sixty (60) days from the issuance date of this notice; reply comments are due one hundred five (105) days from the issuance date of this notice.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed in the service list prepared by the Commission in this proceeding, in accordance with 18 CFR 4.34(b) and 385.2010.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE, Washington, DC 20426. The first page of any filing should include docket number P-2883-009.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Fries Project consists of: (1) A 41-foot-high, 610-foot-long rock masonry dam with a 500-foot-long spillway; (2) an 88-acre impoundment at the normal pool elevation (spillway crest elevation) of 2,188.27 feet National Geodetic Vertical Datum of 1929 (NGVD 1929); (3) an approximately 750-foot-long, 110-foot-wide intake canal with four 15.5-foot-high, 6.5-foot-wide headgates; (4) a canal spillway consisting of 10 stoplog bays totaling 47 feet in length; (5) two 12.5-foot-high, 5.0-foot-wide canal gates; (6) a steel powerhouse that contains a single vertical Kaplan turbine with a capacity of 2.1 megawatts (MW) that discharges into a 180-foot-long, 75-foot-wide, 12-foot-deep tailrace; (7) a masonry powerhouse that contains one vertical and two horizontal Francis turbines with a total capacity of 3.0 MW that discharges into a 180-foot-long, 120-foot-wide, 12-foot-deep tailrace; (8) a 500-foot-long, 450-foot-wide bypassed reach that extends from the toe of the dam to the confluence with the tailraces; (9) a 567-foot-long, 13.2-kilovolt (kV) transmission line that runs from the steel powerhouse to the interconnection point with the grid; (10) a 130-foot-long transmission line that connects the masonry powerhouse to a 5,000 kilovolt-amp step-up transformer and an additional 323-foot-long, 13.2-kV transmission line leading from the transformer to the interconnection point; and (11) appurtenant facilities.

Aquenergy proposes to continue operating the project in a run-of-river mode. In addition, Aquenergy proposes to: (1) Maintain the impoundment elevation within 0.2 foot of the spillway crest of 2,188.27 feet NGVD 1929 at all times, during normal project operation; (2) make enhancements to the impoundment access recreation site and canoe portage trail; (3) develop a project recreation management plan; and (4) develop a project operations plan. For the period 2003 through 2016, the average annual generation at the Fries Project was 26,150 megawatt-hours.

m. A copy of the application is available for review at the Commission in the Public Reference Room or may be viewed on the Commission's website at http://www.ferc.gov using the eLibrary link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

n. Procedural Schedule: The application will be processed according to the following schedule. Revisions to the schedule may be made as appropriate.

Milestone | Target date
Filing of recommendations, terms and conditions, and prescriptions | March 2020.
Commission issues Environmental Assessment (EA) | August 2020.
Comments on EA | September 2020.

o. Final amendments to the application must be filed with the Commission no later than thirty (30) days from the issuance date of this notice.

Dated: January 29, 2020.
Kimberly D. Bose,
Secretary.

[FR Doc. 2020-02107 Filed 2-3-20; 8:45 am]

BILLING CODE 6717-01-P